DEPARTMENT OF VETERANS AFFAIRS

[OMB Control No. 2900-0648]

Proposed Information Collection (Foreign Medical Program Application and Claim Cover Sheet) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before October 2, 2015.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0648” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

1. Foreign Medical Program (FMP) Registration Form.

2. CLAIM COVER SHEET—FOREIGN MEDICAL PROGRAM (FMP).

OMB Control Number: 2900-0648.

Type of Review: Extension of a currently approved collection.

Abstracts: This information collection is needed to carry out the health care benefits allowed by the Foreign Medical Program (FMP). It is a federal health benefits program for Veterans administered by the Department of Veterans Affairs (VA) Veterans Health Administration (VHA). FMP is a Fee for Service (indemnity plan) program. FMP provides reimbursement for VA adjudicated service-connected conditions. Title 38 CFR 17.35 states that the VA will provide coverage for the Veteran's service-connected disability when the Veteran is residing or traveling overseas.

VA Form 10-7959f-1, Foreign Medical Program (FMP) Registration Form, is used to register into the Foreign Medical Program those Veterans with service-connected disabilities that are living or traveling overseas. Title 38 CFR 17.125(d) states that requests for consideration of claim reimbursement from approved health care providers and Veterans are to be mailed to VHA Health Administration Center (HAC). The VA Form 10-7959f-2, Claim Cover Sheet—Foreign Medical Program streamlines the claims submission process for claimants or physicians while also reducing the time spent by VA on processing FMP claims. The cover sheet will allow foreign providers/Veterans with a better understanding of basic information required for the processing and payment of claims.

Affected Public: Individuals or households.

Estimated Annual Burden:

a. Foreign Medical Program (FMP) Registration Form—fill, VA Form 10-7959f-1—111 hours.

b. CLAIM COVER SHEET—FOREIGN MEDICAL PROGRAM (FMP)—fill, VA Form 10-7959f-2—3,652 hours.

Estimated Average Burden per Respondent:

a. Foreign Medical Program (FMP) Registration Form—fill, VA Form 10-7959f-1—4 minutes.

b. CLAIM COVER SHEET—FOREIGN MEDICAL PROGRAM (FMP)—fill, VA Form 10-7959f-2—11 minutes.

Frequency of Response:

a. Foreign Medical Program (FMP) Registration Form—fill, VA Form 10-7959f-1—Annually

b. CLAIM COVER SHEET—FOREIGN MEDICAL PROGRAM (FMP)—fill, VA Form 10-7959f-2 —12 times a year.

Estimated Annual Responses:

a. Foreign Medical Program (FMP) Registration Form—fill, VA Form 10-7959f-1—1,660.

b. CLAIM COVER SHEET—FOREIGN MEDICAL PROGRAM (FMP)—fill, VA Form 10-7959f-2—19,920.

By direction of the Secretary.
Kathleen M. Manwell,
Program Analyst, VA Privacy Service, Office of Privacy and Records Management, Department of Veterans Affairs.

[FR Doc. 2015-18925 Filed 7-31-15; 8:45 am]

BILLING CODE 8320-01-P